FEDERAL ELECTION COMMISSION

Sunshine Act Notices

Cancellation of previously announced meetings: Wednesday, December 5, 2006, meeting closed to the public and Thursday, December 7, 2006, meeting open to the public.

DATE and TIME: Tuesday, December 12, 2006 at 10 a.m.

PLACE: 999 E Street, NW., Washington, DC.

STATUS: This meeting will be closed to the public.

ITEMS TO BE DISCUSSED: Compliance matters pursuant to 2 U.S.C. 437g. Audits conducted pursuant to 2 U.S.C. 437g, 438(b), and title 26, U.S.C. Matters concerning participation in civil actions or proceedings or arbitration. Internal personnel rules and procedures or matters affecting a particular employee.

FOR FURTHER INFORMATION CONTACT: Mr. Robert Biersack, Press Officer, Telephone: (202) 694-1220.

Mary W. Dove,
Secretary of the Commission.

[FR Doc. 06-9614 Filed 12-5-06; 8:45 am]

BILLING CODE 6715-01-M